CONSUMER PRODUCT SAFETY COMMISSION

16 CFR Parts 1220 and 1221

[Docket No. CPSC-2024-0034]

Revision to the Voluntary Standard for Non-Full-Size Baby Cribs and Play Yards

AGENCY: Consumer Product Safety Commission.

ACTION: Notice of revised standard; request for comments.

SUMMARY: Two of the U.S. Consumer Product Safety Commission's (Commission or CPSC) mandatory rules, Safety Standard for Non-Full-Size Baby Cribs and Safety Standard for Play Yards, incorporate by reference the same voluntary standard, ASTM F406, Standard Consumer Safety Specification for Non-Full-Size Baby Cribs/Play Yards. The Safety Standard for Non-Full-Size Baby Cribs incorporates the 2022 version of ASTM F406, and the Safety Standard for Play Yards incorporates the 2019 version of ASTM F406. ASTM notified the Commission that it has revised ASTM F406 and published ASTM F406-2024. CPSC seeks comment on whether adopting the revised voluntary standard would improve the safety of non-full-size cribs and/or play yards.

DATES: Comments must be received by November 8, 2024.

ADDRESSES: You can submit comments, identified by Docket No. CPSC-2024-0034, by any of the following methods:

Electronic Submissions: Submit electronic comments to the Federal eRulemaking Portal at: https://www.regulations.gov. Follow the instructions for submitting comments. Do not submit through this website: confidential business information, trade secret information, or other sensitive or protected information that you do not want to be available to the public. CPSC typically does not accept comments submitted by email, except as described below.

Mail/Hand Delivery/Courier/Confidential Written Submissions: CPSC encourages you to submit electronic comments by using the Federal eRulemaking Portal. You may, however, submit comments by mail, hand delivery, or courier to: Office of the Secretary, Consumer Product Safety Commission, 4330 East-West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit to this website: confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2024-0034, into the “Search” box, and follow the prompts.

FOR FURTHER INFORMATION CONTACT: Frederick DeGrano, Project Manager, Division of Mechanical and Combustion Engineering, U.S. Consumer Product Safety Commission, 5 Research Place, Rockville, MD 20850; telephone: (301) 987-2711; email: fdegrano@cpsc.gov.

SUPPLEMENTARY INFORMATION: Section 104(b) of the Consumer Product Safety Improvement Act of 2008 (CPSIA) requires the Commission to adopt mandatory standards for durable infant or toddler products. 15 U.S.C. 2056a(b)(1). Mandatory standards must be “substantially the same as” voluntary standards, or they may be “more stringent” than the applicable voluntary standards, if the Commission determines that more stringent requirements would further reduce the risk of injury associated with the products. Id. Mandatory standards may be based, in whole or in part, on a voluntary standard.

Section 104(b)(4)(B) of the CPSIA specifies the process for when a voluntary standards organization revises a standard that the Commission incorporated by reference under section 104(b)(1). First, the voluntary standards organization must notify the Commission of the revision. Once the Commission receives this notification, the Commission may reject or accept the revised standard. To reject a revised standard, the Commission must notify the voluntary standards organization within 90 days of receiving the notice of revision that the Commission has determined that the revised standard does not improve the safety of the consumer product and that CPSC is retaining the existing standard. If the Commission does not take this action, the revised voluntary standard will be considered a consumer product safety standard issued under section 9 of the Consumer Product Safety Act (15 U.S.C. 2058), effective 180 days after the Commission received notification of the revision (or a later date specified by the Commission in the Federal Register). 15 U.S.C. 2056a(b)(4)(B).

Under this authority, the Commission issued two mandatory safety rules that incorporate by reference applicable provisions of ASTM F406: Safety Standard for Non-Full-Size Baby Cribs, codified at 16 CFR part 1220 (75 FR 81787, Dec. 28, 2010), and Safety Standard for Play Yards, codified at 16 CFR part 1221 (77 FR 52228, Aug. 29, 2012). These mandatory standards include performance requirements and test methods, as well as requirements for warning labels and instructions, to address hazards to children. After the Commission's promulgation of these final rules, ASTM published several revisions to ASTM F406 that the Commission considered for incorporation by reference in the mandatory rules, parts 1220 and 1221. Most recently, in 2023, the Commission revised the non-full-size (NFS) cribs mandatory standard to incorporate by reference ASTM F406-2022, but rejected ASTM F406-2022 as it applied to play yards. 88 FR 13686 (Mar. 6, 2023) (NFS cribs); March 2, 2023, Letter to K. Morgan, President, ASTM International (play yards).¹ Accordingly, the NFS cribs mandatory rule currently incorporates the 2022 version of ASTM F406 and the play yard mandatory rule currently incorporates the 2019 version of ASTM F406.

¹ Available at: https://www.cpsc.gov/s3fs-public/Play-Yard-PL112-28-Letter-to-ASTM-3-3-2023.pdf?VersionId=qKf310sZqWpkJlZtiqXEETeswtfzJlVt.

On October 7, 2024, ASTM notified the Commission that it had approved and published another revised version of the voluntary standard, ASTM F406-2024. CPSC staff is assessing the revised voluntary standard to determine, consistent with section 104(b)(4)(B) of the CPSIA, its effect on the safety of NFS cribs subject to 16 CFR part 1220, and, separately, the safety of play yards subject to 16 CFR part 1221. The Commission invites public comment on those questions to inform staff's assessment and subsequent Commission consideration of the revisions in ASTM F406-2024.²

² The Commission voted (5-0) to publish this notice.

The currently incorporated voluntary standards (ASTM F406-2019 and ASTM F406-2022) and the revised voluntary standard (ASTM F406-2024) are available for review in several ways. A read-only copy of the existing, incorporated standards are available for viewing, at no cost, on the ASTM website at: https://www.astm.org/READINGLIBRARY/. A read-only copy of the revised standard (ASTM F406-2024), including red-lined versions that identify the changes from the 2019 and 2022 versions to the 2024 version, are available, at no cost, on ASTM's website at: https://www.astm.org/CPSC.htm. Interested parties can also download copies of the standards by purchasing them from ASTM International, 100 Barr Harbor Drive, P.O. Box C700, West Conshohocken, PA 19428-2959; phone: 610-832-9585; https://www.astm.org. Alternatively, interested parties can schedule an appointment to inspect copies of the standards at CPSC's Office of the Secretary, U.S. Consumer Product Safety Commission, 4330 East-West Highway, Bethesda, MD 20814, telephone: 301-504-7479.

Comments must be received by November 8, 2024. Because of the short statutory time frame Congress established for the Commission to consider revised voluntary standards under section 104(b)(4) of the CPSIA, CPSC will not consider comments received after this date.

Alberta E. Mills,
Secretary, Consumer Product Safety Commission.

[FR Doc. 2024-24130 Filed 10-24-24; 8:45 am]

BILLING CODE 6355-01-P